DEPARTMENT OF ENERGY

Federal Energy Regulatory Commission

[Docket No. ER01-919-001, et al.]

Engage Energy America LLC, et al.; Electric Rate and Corporate Regulation Filings

February 13, 2002.

Take notice that the following filings have been made with the Commission. Any comments should be submitted in accordance with Standard Paragraph E at the end of this notice.

1. Engage Energy America LLC

[Docket No. ER01-919-001]

Take notice that on February 8, 2002, Engage Energy America LLC (Engage America) filed a notice of change of status and a Code of Conduct respecting Engage America's pending affiliation with Duke Energy Corporation.

Comment Date: March 1, 2002.

2. Cinergy Services, Inc.

[Docket No. ER01-3022-002]

Take notice that on February 8, 2002, Cinergy Services, Inc. (Cinergy) tendered for filing a Substitute First Revised page 3 and a Substitute First Revised Attachment A of an unexecuted Interconnection Agreement filed January 25, 2002 in this docket. The Substitute First Revised page 3 and Substitute First Revised Attachment A corrects a corporate name mistakenly referenced in the originally filed version.

Consistent with the Commission's October 26, 2001 Order in this Docket, Cinergy requests an effective date of September 8, 2001 for the Substitute First Revised page 3 and Substitute First Revised Attachment A.

Cinergy states that it has served a copy of its filing upon the Indiana Utility Regulatory Commission and Sugar Creek Energy, LLC.

Comment Date: March 1, 2002.

3. Duquesne Light Company

[Docket No.ER02-995-000]

Take notice that on February 11, 2002 Duquesne Light Company (DLC) filed a Service Agreement dated February 8, 2002 with NRG Power Marketing, Inc. under DLC's Open Access Transmission Tariff (Tariff). The Service Agreement adds NRG Power Marketing, Inc. as a customer under the Tariff.

DLC requests an effective date of February 8, 2002 for the Service Agreement.

Comment Date: March 4, 2002.

4. Duquesne Light Company

[Docket No. ER02-996-000]

Take notice that on February 11, 2002, Duquesne Light Company (DLC) filed a Service Agreement dated February 8, 2002 with NRG Power Marketing, Inc. under DLC's Open Access Transmission Tariff (Tariff). The Service Agreement adds NRG Power Marketing, Inc. as a customer under the Tariff.

DLC requests an effective date of February 8, 2002 for the Service Agreement.

Comment Date: March 4, 2002.

5. Southern Indiana Gas & Electric Company

[Docket No. ER02-997-000]

Take notice that on February 11, 2002, Southern Indiana Gas & Electric Company (SIGECO), tendered for filing an unexecuted Service Agreement for Generator-Related Ancillary Services between SIGECO and Midwest Independent Transmission System Operator, Inc. (Midwest ISO) under SIGECO's FERC Electric Tariff, Second Revised Volume No. 3.

SIGECO respectfully requests that the Service Agreement become effective on February 1, 2002, the date service commenced. Copies of the filing were served upon the above-mentioned company and the Indiana Utility Regulatory Commission.

Comment Date: March 4, 2002.

6. Central Power and Light Company Public Service Company of Oklahoma Southwestern Electric Power Company West Texas Utilities Company

[Docket Nos. OA97-24-007, ER97-881-004, ER98-4609-004 and ER98-4611-005]

Take notice that on February 8, 2002, Central Power and Light Company, Public Service Company of Oklahoma, Southwestern Electric Power Company and West Texas Utilities Company (collectively, the Companies) submitted for filing with the Federal Energy Regulatory Commission (Commission) revised pages to their open access transmission service tariff in compliance with the Commission's November 8, 2001 order in the above-captioned proceedings.

The Companies state that a copy of the filing has been served on all parties to this proceeding, all customers under the tariff and the Public Utility Commission of Texas, the Louisiana Public Service Commission, the Arkansas Public Service Commission and the Oklahoma Corporation Commission.

Comment Date: March 1, 2002.

Standard Paragraph:

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-4164 Filed 2-20-02; 8:45 am]

BILLING CODE 6717-01-P